DEPARTMENT OF COMMERCE

National Oceanic and Atmospheric Administration

[I.D. 102402C]

Proposed Information Collection; Comment Request; Coastal and Estuarine Land Conservation, Planning, Protection, or Restoration

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before December 30, 2002.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Elaine Vaudreuil, N/ORM Room 10541, 1305 East-West Highway, Silver Spring MD 20910-3281 (301-713-3155, ext. 103).

SUPPLEMENTARY INFORMATION:

I. Abstract

The FY 2002 Commerce, Justice, State Appropriations Act directed the Secretary of Commerce to establish a Coastal and Estuarine Land Conservation Program (CELCP) to protect important areas that have significant conservation, recreation, ecological, historical, or aesthetic values, or that are threatened by conversion, and to issue guidelines for this program delineating the criteria for grant awards. The guidelines establish procedures for eligible applicants who choose to participate in the program to use when developing state conservation plans, proposing or soliciting projects under this program, applying for funds, and carrying out projects under this program in a manner that is consistent with the purposes of the program. NOAA also has, or is given, authority under the Coastal Zone Management Act, annual appropriations or other authorities, to issue funds to coastal states and localities for planning, conservation, acquisition, protection, restoration, or construction projects. This information collection enables NOAA to implement the CELCP, under its current or future authorization, and facilitate the review of similar projects under different, but related authorities.

II. Method of Collection

The Project Application Checklist is a form. The other information is submitted in accordance with guidance. The information can be submitted in electronic or paper format.

III. Data

OMB Number: 0648-0459.

Form Number: None.

Type of Review: Regular submission.

Affected Public: State, Local, or Tribal Government; not-for-profit institutions.

Estimated Number of Respondents: 50.

Estimated Time Per Response: 30 hours for a CELCP plan; and 10 hours for a project application and checklist.

Estimated Total Annual Burden Hours: 1,520.

Estimated Total Annual Cost to Public: $505.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 9, 2002.
Gwellnar Banks,
Management Analyst, Office of the Chief Information Officer.

[FR Doc. 02-27561 Filed 10-29-02; 8:45 am]

BILLING CODE 3510-08-S